DEPARTMENT OF ENERGY

Federal Energy Regulatory Commission

Combined Notice of Filings #1

Take notice that the Commission received the following electric corporate filings:

Docket Numbers: EC16-103-000.

Applicants: Copper Mountain Solar 4, LLC, Mesquite Solar 2, LLC, Mesquite Solar 3, LLC.

Description: Application for Authorization of Transaction Pursuant to FPA Section 203 of Copper Mountain Solar 4, LLC, et al.

Filed Date: 4/15/16.

Accession Number: 20160415-5300.

Comments Due: 5 p.m. ET 5/6/16.

Docket Numbers: EC16-104-000.

Applicants: Maine GenLead, LLC.

Description: Application for Authorization Under Section 203 of the Federal Power Act and Request for Waivers, Expedited Action, Shortened Comment Period, and Confidential Treatment of Maine GenLead, LLC.

Filed Date: 4/15/16.

Accession Number: 20160415-5319.

Comments Due: 5 p.m. ET 5/6/16.

Take notice that the Commission received the following electric rate filings:

Docket Numbers: ER15-266-004.

Applicants: Public Service Company of Colorado.

Description: Compliance filing: 2016-4-18_PSCoLossesStlmtCompFiling to be effective 1/1/2014.

Filed Date: 4/18/16.

Accession Number: 20160418-5096.

Comments Due: 5 p.m. ET 5/9/16.

Docket Numbers: ER16-1038-001.

Applicants: Entergy Louisiana, LLC.

Description: Tariff Amendment: ELL-SRMPA 8th Extension of Interim Agreement to be effective 3/1/2016.

Filed Date: 4/15/16.

Accession Number: 20160415-5293.

Comments Due: 5 p.m. ET 5/6/16.

Docket Numbers: ER16-1077-001.

Applicants: Southwest Power Pool, Inc.

Description: Tariff Amendment: Amended Filing in ER16-1077—Southwestern Amendatory Agreement Third Extension to be effective 3/1/2016.

Filed Date: 4/18/16.

Accession Number: 20160418-5114.

Comments Due: 5 p.m. ET 5/9/16.

Docket Numbers: ER16-1303-001.

Applicants: Entergy Louisiana, LLC.

Description: Tariff Amendment: ELL-SRMPA 9th Extension of Interim Agreement to be effective 4/1/2016.

Filed Date: 4/15/16.

Accession Number: 20160415-5294.

Comments Due: 5 p.m. ET 5/6/16.

Docket Numbers: ER16-1438-000.

Applicants: 63SU 8ME LLC.

Description: § 205(d) Rate Filing: LGIA CTA Concurrence Normal to be effective 6/7/2016.

Filed Date: 4/15/16.

Accession Number: 20160415-5268.

Comments Due: 5 p.m. ET 5/6/16.

Docket Numbers: ER16-1439-000.

Applicants: 63SU 8ME LLC.

Description: § 205(d) Rate Filing: SFA Concurrence Normal to be effective 6/7/2016.

Filed Date: 4/15/16.

Accession Number: 20160415-5271.

Comments Due: 5 p.m. ET 5/6/16.

Docket Numbers: ER16-1440-000.

Applicants: Roswell Solar, LLC.

Description: Baseline eTariff Filing: Roswell Solar, LLC's Application for Market-based Rates to be effective 6/15/2016.

Filed Date: 4/15/16.

Accession Number: 20160415-5273.

Comments Due: 5 p.m. ET 5/6/16.

Docket Numbers: ER16-1441-000.

Applicants: Northern States Power Company, a Minnesota corporation.

Description: Tariff Cancellation: 20160415_Clarity_Cancellation to be effective 12/31/9998.

Filed Date: 4/15/16.

Accession Number: 20160415-5295.

Comments Due: 5 p.m. ET 5/6/16.

Docket Numbers: ER16-1442-000.

Applicants: Northern States Power Company, a Wisconsin corporation.

Description: Tariff Cancellation: 20160415_Clarity Cancellation to be effective 4/15/2016.

Filed Date: 4/15/16.

Accession Number: 20160415-5296.

Comments Due: 5 p.m. ET 5/6/16.

Docket Numbers: ER16-1443-000.

Applicants: NRG Power Midwest LP.

Description: § 205(d) Rate Filing: Revised Rate Schedule and Request for Waiver to be effective 4/16/2016.

Filed Date: 4/18/16.

Accession Number: 20160418-5000.

Comments Due: 5 p.m. ET 5/9/16.

Docket Numbers: ER16-1444-000.

Applicants: PJM Interconnection, L.L.C.

Description: Tariff Cancellation: Notice of Cancellation of In-Service Construction Service Agreements to be effective 1/14/2011.

Filed Date: 4/18/16.

Accession Number: 20160418-5112.

Comments Due: 5 p.m. ET 5/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2016.
Kimberly D. Bose,
Secretary.

[FR Doc. 2016-09351 Filed 4-21-16; 8:45 am]

BILLING CODE 6717-01-P